DEPARTMENT OF AGRICULTURE

Forest Service

First Phase of the Forest Planning Process for the Bio-Region; Correction

AGENCY: USDA, Forest Service.

ACTION: Notice; correction.

SUMMARY: The Department of Agriculture (USDA), Forest Service, Pacific Southwest Region, published a notice in the Federal Register of January 24, 2013, (78 FR 5165) which concerned initiating a forest planning process under the new planning rule entitled First Phase of the Forest Planning Process for the Bio-Region. The document contained incorrect wording describing the Notice as a Notice of Intent and introducing terms associated with National Environmental Policy Act (NEPA) process, and extraneous material not associated with the forest planning revision process.

FOR FURTHER INFORMATION CONTACT: Ronald L. Pugh, Deputy Director, Ecosystem Planning, 707-562-8951. Individuals who use telecommunication devices for the deaf (TDD) may call the Federal Information Relay Service (FIRS) at 1-800-877-8339 between 8 a.m. and 8 p.m., Eastern Time, Monday through Friday.

Correction

In the Federal Register of January 24, 2013, in FR doc. 2013-1254, on page 5165, in the first column, correct the SUMMARY to read:

The Department of Agriculture (USDA), Forest Service, Pacific Southwest Region is initiating the first phase of the forest planning process pursuant to the 2012 Forest Planning Rule. This process results in Forest Land Management Plans which describe the strategic direction for management of forest resources for the next ten to fifteen years on these National Forests. The first phase of the process, the assessment phase, has begun on the Sequoia, Sierra, and Inyo National Forests and that interested parties are invited to contribute in the development of the assessment (36 CFR 219.6), and that associated NEPA processes will be initiated after its completion.

In the Federal Register of January 24, 2013, in FR doc. 2013-1254, on page 5165, in the second column, correct the DATES to:

The assessments for the Inyo, Sequoia, and Sierra National Forests will be completed by December 31, 2013. Following completion of the assessments each forest will initiate procedure pursuant to the NEPA and prepare forest plan revisions.

In the Federal Register of January 24, 2013, in FR doc. 2013-1254, on page 5165, in the second column, correct the SUPPLEMENTARY INFORMATION to read:

The National Forest Management Act (NFMA) of 1976 requires that every National Forest System (NFS) unit develop a land management plan (LMP). On April 9, 2012, the Forest Service finalized its land management planning rule (2012 Planning Rule), which provides broad programmatic direction to National Forests and National Grasslands for developing and implementing their land management plans (LMPs). Forest plans describe the strategic direction for management of forest resources for ten to fifteen years, and are adaptive and amendable as conditions change over time. Under the 2012 Planning Rule, the assessment of ecological, social, and economic trends and conditions is the first stage of the planning process. The second stage is a development and decision process guided, in part, by the National Environment Policy Act (NEPA) and includes the preparation of Draft Environmental Impact Statement and Revised Forest Plan for public review and comment, and the preparation of the Final Environmental Impact Statement and Revised Forest Plan. The third stage of the process is monitoring and feedback, which is ongoing over the life of the revised forest plans.

The Pacific Southwest Region of the Forest Service, United States Department of Agriculture, along with the Sierra, Inyo, and Sequoia National Forests, is preparing assessments pursuant to 2012 Forest Planning Rule. The assessments will rapidly evaluate existing information about relevant ecological, economic, and social conditions, trends, and sustainability and their relationship to land management plans within the context of the broader landscape. The assessments will identify existing information relevant to the planning areas and build common understanding of that information prior to initiating formal plan revision processes. The process to develop these assessments will be carried out using an open, collaborative, and transparent public engagement process. With this notice, the agency invites other governments, non-governmental parties, and the public to contribute in assessment development. The intent of public engagement during development of the assessment is to identify as much relevant information as possible to inform the land management plan development process. We encourage contributors to share material about existing conditions, trends, and perceptions of social, economic, and ecological systems relevant to the planning process. Public participation in the assessment process supports the development of relationships of key stakeholders throughout the plan development process and is a first step to understanding current conditions, available data, and feedback needed to support a strategic, efficient planning process.

Due to commonality of issues and the broader landscape to consider, these assessment processes will begin with a larger geographic or regional assessment. This broader area evaluation will not only provide a landscape scale context for the revision of the Inyo, Sequoia, and Sierra National Forests, it will provide information that will be used as the agency moves into the revision process for adjacent forests in the near future, and provide for a more comprehensive and efficient process.

We are committed to collaboration and to strengthening public engagement throughout the process. Collaboration and communication plans are being developed with the help of stakeholders at the regional and forest levels. Each plan is unique to the needs of the people and communities being served. Regional and forest specialists have begun collecting information and working with stakeholders to describe existing resource conditions and trends. If you would like to contribute to the process or for more information, please contact Ronald L. Pugh, Deputy Director, Ecosystem Planning of the Pacific Southwest Region, 707-562-8951 or visit intranet site: www.ourforestplace.ning.com. The projected completion date for the assessments for the Inyo, Sequoia, and Sierra National Forests is December 31, 2013.

Dated: January 31, 2013.
Randy Moore,
Regional Forester.

[FR Doc. 2013-02588 Filed 2-1-13; 11:15 am]

BILLING CODE 3410-11-P